DEPARTMENT OF ENERGY

Federal Energy Regulatory Commission

[Docket No. RP04-161-000]

Texas Gas Transmission, LLC; Notice of Tariff Filing

February 10, 2004.

Take notice that on February 6, 2004, Texas Gas Transmission, LLC (Texas Gas) tendered for filing as part of its FERC Gas Tariff, Second Revised Volume No. 1, the following tariff, sheets to become effective April 1, 2004:

First Revised Original Sheet No. 2

First Revised Sheet No. 10

First Revised Sheet No. 146

First Revised Sheet No. 156

Sheet Nos. 184—188

First Revised Sheet No. 279

Sheet No. 502

Texas Gas states that the purpose of this filing is to make clear that Texas Gas does not have a sales operating unit and does not provide an unbundled sales service under subpart J of part 284 of the Commission's regulations, and therefore is not engaged in the marketing, sales, or brokering of natural gas, by removing Texas Gas' unbundled sales service under Rate Schedule GaS from its tariff. Upon cancellation of Rate Schedule GaS, Texas Gas' states that its unbundled sales certificate will no longer be effective because it will not have any tariff sheets on file implementing service under that blanket certificate.

Texas Gas states that copies of the revised tariff sheets are being mailed to all parties on Texas Gas' official service list, to Texas Gas' jurisdictional customers, and to interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-300 Filed 2-13-04; 8:45 am]

BILLING CODE 6717-01-P